DEPARTMENT OF COMMERCE

National Oceanic and Atmospheric Administration

RIN 0648-XC660

Pacific Fishery Management Council; Public Meeting

AGENCY: National Marine Fisheries Service (NMFS), National Oceanic and Atmospheric Administration (NOAA), Commerce.

ACTION: Notice of public meeting.

SUMMARY: The Pacific Fishery Management Council's (Pacific Council) Groundfish Management Team (GMT) will hold a webinar to discuss the potential reorganization of stock complexes.

DATES: The webinar call will be held Wednesday, May 22, 2013 from 1:30 p.m. until business for the day has been completed.

ADDRESSES: The meeting will be held via webinar. To attend the GMT meeting, please reserve your seat by visiting: https://www2.gotomeeting.com/register/868468890. If requested, enter your name, email address, and the webinar ID, which is 868468890. Once registered, participants will receive a confirmation email message that contains detailed audio and viewing information about the event. To only join the audio teleconference of the webinar from the U.S. or Canada, call the toll number +1 (415) 655-0051 (note: This is not a toll-free number) and use the access code 802-457-985 when prompted.

Council address: Pacific Fishery Management Council, 7700 NE Ambassador Place, Suite 101, Portland, OR 97220-1384.

FOR FURTHER INFORMATION CONTACT: Ms. Kelly Ames or Mr. John DeVore, Staff Officers, Pacific Council; telephone: (503) 820-2280.

SUPPLEMENTARY INFORMATION: The objective of the meeting is to review analysis designed to inform the potential reorganization of groundfish stock complexes. The GMT is tentatively scheduled to report their findings to the Pacific Council at their June 2013 meeting in Garden Grove, CA.

Although non-emergency issues not contained in the meeting agenda may come before the GMT for discussion, those issues may not be the subject of formal GMT action during this meeting. GMT action will be restricted to those issues specifically listed in this notice and any issues arising after publication of this notice that require emergency action under section 305(c) of the Magnuson-Stevens Fishery Conservation and Management Act, provided the public has been notified of the GMT's intent to take final action to address the emergency.

Special Accommodations

This meeting is physically accessible to people with disabilities. Requests for sign language interpretation or other auxiliary aids should be directed to Mr. Kris Kleinschmidt at (503) 820-2280 at least 5 days prior to the meeting date.

Dated: May 1, 2013.
Tracey L. Thompson,
Acting Deputy Director, Office of Sustainable Fisheries, National Marine Fisheries Service.

[FR Doc. 2013-10708 Filed 5-6-13; 8:45 am]

BILLING CODE 3510-22-P